DEPARTMENT OF HEALTH AND HUMAN SERVICES

National Institutes of Health

National Heart, Lung, and Blood Institute; Amended Notice of Meeting

Notice is hereby given to clarify the meeting times of the Sleep Disorders Research Advisory Board, April 14-15, 2016, NHLBI/National Institutes of Health, Two Rockledge Center, 6701 Rockledge Drive, Conference Room 9100/9104, Bethesda, MD, which was published in the Federal Register on March 14, 2016, 81 FR 13399.

Time: April 14 1:00 p.m. to 5:00 p.m., April 15 8:30 a.m. to 3:00 p.m.

Agenda: Information will be presented on the status of selected NIH sleep research programs and inter-agency coordination activities. The Sleep Disorders Research Advisory Board will discuss a potential framework for a revision of the NIH Sleep Disorders Research Plan. The Board will also hear brief presentations from organizations and individuals interested in NIH sleep research programs and planning.

Dated: March 29, 2016.
Anna Snouffer,
Deputy Director, Office of Federal Advisory Committee Policy.

[FR Doc. 2016-07502 Filed 4-1-16; 8:45 am]

BILLING CODE 4140-01-P